DEPARTMENT OF DEFENSE

Office of the Secretary

Federal Advisory Committee; Military Leadership Diversity Commission (MLDC); Correction

AGENCY: Office of the Under Secretary of Defense for Personnel and Readiness, DoD.

ACTION: Meeting notice; correction.

SUMMARY: The Office of the Secretary of Defense published a notice in the Federal Register on June 18, 2010 (75 FR 34707), announcing a meeting of the Military Leadership Diversity Commission (MLDC) on July 7 and 8, 2010, in Baltimore, MD. This document corrects the June 18 notice by adding a closed Administrative Meeting (July 6, 2010) and an agenda for the July 6 meeting. This document also corrects the agenda for the July 7 meeting and the Public Accessibility information. The times and meeting location that were announced in the June 18 notice are correct.

DATES: The meeting will be held on July 6 (from 7 p.m. to 9:30 p.m.), July 7 (from 7:30 a.m. to 8 p.m.) and July 8, 2010 (from 8 a.m. to 4 p.m.).

ADDRESSES: The meeting will be held at the Mt. Washington Conference Center, 5801 Smith Ave., Suite 1100, Baltimore, MD 21209.

FOR FURTHER INFORMATION CONTACT: Master Chief Steven A. Hady, Designated Federal Officer, MLDC, at (703) 602-0838, 1851 South Bell Street, Suite 532, Arlington, VA. E-mail Steven.Hady@wso.whs.mil.

SUPPLEMENTARY INFORMATION:

Corrections

In the Federal Register of June 18, 2010, in FR Doc. 2010-14713, beginning on page 34707, make the following corrections:

1. On page 34707, in the third column, correct the DATES caption to read:

DATES: The meeting will be held on July 6 (from 7 p.m. to 9:30 p.m.), July 7 (from 7:30 a.m. to 8 p.m.) and July 8, 2010 (from 8 a.m. to 4 p.m.).

2. On page 34707, in the third column, in SUPPLEMENTARY INFORMATION, correct the text under the “Agenda” heading by adding July 6, 2010, as the first agenda topic to read:

Agenda

July 6, 2010 (Closed Administrative Meeting)

7 p.m. to 9:30 p.m.

DFO opens the meeting.

Commission Chairman opening remarks.

DFO recesses the meeting.

3. On page 34707, in the third column, in SUPPLEMENTARY INFORMATION, under the “Agenda” heading for “July 7, 2010”, in “8:45 a.m.-9:45 a.m.”, remove the agenda topic “Deliberation of decision paper for definition of diversity.” and add in its place the topic “Deliberation of decision paper for outreach and recruiting.”.

4. On page 34708, in the first column, correct the text under the “Public's Accessibility to the Meeting” heading to read:

Public's Accessibility to the Meeting

Pursuant to 5 U.S.C. 552b and 41 CFR 102-3.140 through 102-3.165, and the availability of space, the meetings on July 7 and 8, 2010, will be open to the public. Please note that the availability of seating is on a first-come basis.

Pursuant to 41 CFR 3.160(b), the Administrative Working Meeting on July 6, 2010, shall be closed to the public.

Dated: June 25, 2010.
Mitchell S. Bryman,
Alternate OSD Federal Register Liaison Officer, Department of Defense.

[FR Doc. 2010-15907 Filed 6-29-10; 8:45 am]

BILLING CODE 5001-06-P